DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Northeast Region Observer Providers Requirements.

Form Number(s): None.

OMB Approval Number: 0648-0546.

Type of Request: Regular submission.

Burden Hours: 611.

Number of Respondents: 805.

Average Hours per Response: New permit application for observer provider, 10 hours; response to denial of application, 10 hours; request for observer training, 30 minutes; observer service provider reports and samples, 30 minutes; rebuttal of pending removal from list of approved observer service providers, 8 hours; vessel trip notification requirements, 20 minutes.

Needs and Uses: National Marine Fisheries Service (NMFS) plans to extend the industry-funded observer program in the Atlantic Sea Scallop Fishery Management Plan, wherein scallop vessels would be required to procure observer coverage from an approved observer service provider. The observer service providers would be required to submit an application to NMFS for approval, and once approved, would be required to submit various information to support the observer program. Scallop vessel owners or operators would be required to contact approved observer service providers in order to procure an observer for trips on which an observer is required.

Affected Public: Business or other for-profit organizations.

Frequency: On occasion and one time only.

Respondent's Obligation: Mandatory.

OMB Desk Officer: David Rostker, (202) 395-3897.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to David Rostker, OMB Desk Officer, FAX number (202) 395-7285, or David_Rostker@omb.eop.gov.

Dated: November 2, 2006.
Gwellnar Banks,
Management Analyst, Office of the Chief Information Officer.

[FR Doc. E6-18864 Filed 11-7-06; 8:45 am]

BILLING CODE 3510-22-P